DEPARTMENT OF AGRICULTURE

Rural Utilities Service

Norborne Baseload Plant

AGENCY: Rural Utilities Service, USDA.

ACTION: Notice of availability of Draft Environmental Impact Statement and notice of public meetings.

SUMMARY: The Rural Utilities Service (RUS), an agency which administers the U.S. Department of Agriculture's Rural Development Utilities Programs (USDA/RD) is issuing a Draft Environmental Impact Statement (EIS) for the Norborne Baseload Plant (Norborne Plant). The Draft EIS was prepared pursuant to the National Environmental Policy Act of 1969 (NEPA) (U.S.C. 4231 et seq.) in accordance with the Council on Environmental Quality (CEQ) regulations for implementing the procedural provisions of NEPA (40 CFR parts 1500-1508) and USDA Rural Utilities Service (RUS) regulations (7 CFR part 1794). The U.S. Army Corps of Engineers is a cooperating agency for this Draft EIS. The purpose of the EIS is to evaluate the potential environmental impacts of and alternatives to the Associated Electric Cooperative, Inc. (AECI) application for a USDA/RD loan to construct the proposed 660 megawatt (MW) coal-fired power plant in Carroll County, Missouri, near the town of Norborne. AECI is proposing to use a coal combustion technology known as supercritical pulverized coal, along with other proposed pollution controls collectively known as Best Available Control Technology (BACT). The primary components of the Proposed Action include the following:

• Power plant and associated facilities and operations, including the plant cooling system, waste management operations, lighting, and fire protection and other safety systems.

• 345-kV substation with associated transmission line modifications and communications facilities.

• New and modified substations.

• Approximately 134 miles of new 345-kV transmission lines to connect with AECI's existing network.

• Water supply system consisting of groundwater wells and associated pipeline.

• Utility waste landfill.

• New rail access from existing mainline railroads.

• Actions to reduce or prevent environmental impacts.

The Proposed Action has been identified as USDA/RD's Preferred Alternative.

DATES: With this notice, USDA/RD invites any affected Federal, State, and local agencies and other interested persons to comment on the Draft EIS. Written comments on this Draft EIS will be accepted for 45 days following publication of the Environmental Protection Agency's notice of availability for this Draft EIS in the Federal Register.

USDA/RD will hold public meetings at three locations in February 2007: February 6 at the Knights of Columbus Building, 311 E. Patterson Avenue, Salisbury, MO; February 7 at the Best Western State Fair Inn, South 65 Highway and 32nd Street, Sedalia, MO; and February 8 at the Rupe Community Center, 710 Harvest Hills Road, Carrollton, MO. The meetings will begin at 6:30 p.m. and will include a presentation summarizing the findings of the Draft EIS and the opportunity for attendees to submit both oral and written comments. In accordance with 40 CFR 1503.1, Inviting Comments, the purpose of the meeting will be to solicit comments from interested parties on the Draft EIS for the Norborne Plant. A copy of the Draft EIS can be obtained or viewed online at http://www.usda.gov/rus/water/ees/eis.htm. Copies of the Draft EIS will also be available for public review at the following locations (hours vary; contact individual repositories for available times):

Boonslick Regional Library Sedalia Branch, 219 W. 3rd Street, Sedalia, MO 65301, Phone: 660/827-7323.

Boonslick Regional Library, 950 E. Main Street, Warsaw, MO 65355, Phone: 660/438-5211.

Cameron Public Library, 312 N. Chestnut Street, Cameron, MO 64429, Phone: 816/632-2311.

Carnegie Library, 316 Massachusetts Street, St. Joseph, MO 64504, Phone: 816/238-0526.

Carrollton Public Library, 1 N. Folger Street, Carrollton, MO 64633, Phone: 660/542-0183.

Concordia Library, 709 S. Main Street, Concordia, MO 64020, Phone: 660/463-2277.

DeKalb County Public Library, 105 N. Polk Street, Maysville, MO 64469, Phone: 816/449-5695.

Dulany Memorial Library, 501 S. Broadway, Salisbury, MO 65281, Phone: 660/388-5712.

Downtown Library, 927 Felix Street, St. Joseph, MO 64501, Phone: 816/232-7729.

East Hills Library, 502 N. Woodbine Road, Suite A., St. Joseph, MO 64506, Phone: 816/236-2136.

Hale Library & Museum, 321 Main Street, Hale, MO 64643, Phone: 660/565-2617.

Lexington Library, 1008 Main Street, Lexington, MO 64067, Phone: 660/259-3071.

Little Dixie Regional Library, 111 N. 4th Street, Moberly, MO 65270, Phone: 660/263-4426.

Macon Public Library, 210 N. Rutherford Street, Macon, MO 63552, Phone: 660/385-3314.

Marshall Public Library, 214 N. Lafayette, Marshall, MO 65340, Phone: 660/886-3391.

Maryville Public Library, 509 N. Main Street, Maryville, MO 64468, Phone: 660/582-5281.

Mid-Continent Public Library, Excelsior Springs Branch, 1460 Kearney Road, Excelsior Springs, MO 64024-1746, Phone: 816/630-6721.

Mid-Continent Public Library, Kearney Branch, 100 S. Platte-Clay Way, Kearney, MO 64060-7640, Phone: 816/628-5055.

Mound City Public Library, 205 E. 6th Street, Mound City, MO 64470, Phone: 660/442-5700.

Norborne Public Library, 109 E. Second Street, Norborne, MO 64668, Phone: 660-593-3514.

Oregon Public Library, 103 S. Washington Street, Oregon, MO 64473, Phone: 660/446-3586.

Ray County Library, 215 E. Lexington Street, Richmond, MO 64085, Phone: 816/776-5104.

Rolling Hills Consolidated Library: Eastside, 1904 N. Belt Highway, St. Joseph, MO 64506, Phone: 816/232-5479.

Rolling Hills Consolidated Library: Savannah, 514 W. Main Street, Savannah, MO 64485, Phone: 816/324-4569.

Robertson Memorial Library, 19 W. 20th Street, Higginsville, MO 64037, Phone: 660/584-2880.

Sedalia Public Library, 311 W. Third Street, Sedalia, MO 65301, Phone: 660/826-1314.

Sweet Springs Public Library, 217 Turner Street, Sweet Springs, MO 65351, Phone: 660/335-4314.

Washington Park Library, 1821 N. Third Street, St. Joseph, MO 64505, Phone: 816/232-2052.

ADDRESS FOR FURTHER INFORMATION: To send comments or for more information, contact: Stephanie A. Strength, USDA, Rural Development, Utilities Programs, 1400 Independence Avenue, SW., Mail Stop 1570, Room 2244, Washington, DC 20250-1570, telephone (202) 720-0468, fax (202) 720-0820, or e-mail: Stephanie.strength@wdc.usda.gov.

SUPPLEMENTARY INFORMATION: AECI is an electric generation and transmission cooperative, a non-profit utility owned by its members. It provides wholesale electricity and related services to six electric generation and transmission cooperatives that in turn provide electricity to 51 distribution cooperatives. AECI's service area includes most of Missouri outside of urban areas, part of northeast Oklahoma, and a small part of southeast Iowa. AECI is contractually obligated to provide all the electric power needs of the cooperative member systems it serves. AECI does not have the capacity to meet all of its members' power needs beyond 2013.

After considering various ways to meet those future needs, AECI identified the construction of a new coal-fired power plant near Norborne, Missouri as its best course of action. This Draft EIS considered 17 technology alternatives, several alternatives that did not include AECI construction of a new baseload plant, adding capacity at an existing AECI facility, and a number of siting alternatives as means of responding to the identified purpose and need for the project. These alternatives were evaluated in terms of cost-effectiveness, technical feasibility, and environmental soundness. The Draft EIS analyzes in detail the Proposed Action (Norborne Plant and related facilities), essentially the same plant and ancillary facilities at a different location (Big Lake Site), an alternative technology (integrated gasification combined cycle (IGCC), and the No Action Alternative. Under the No Action Alternative, the project would not be constructed.

With actions that have been incorporated into the Proposed Action to reduce or avoid impact, no significant adverse impacts are anticipated. Other adverse but non-significant impacts of the Proposed Action include those on soils, water, air, fisheries and wildlife, noise, transportation, floodplains, wetlands, and farmland. Impacts associated with the use of IGCC are similar.

Use of the Big Lake Site would result in impacts similar to those of the Proposed Action for most resources, but, when compared with the Proposed Action, would likely result in greater adverse impacts on floodplains, recreation and public lands and cultural resources; and potentially significant impacts on fisheries and wildlife (migratory birds), threatened and endangered species (bald eagles), and environmental justice (Native Americans).

AECI's Proposed Action has been identified as USDA/RD's Preferred Alternative. The Preferred Alternative has the potential to have non-significant impacts on wetlands and floodplains.

Any final action by the USDA Rural Development related to the proposed project will be subject to, and contingent upon, compliance with all relevant Federal, state and local environmental laws and regulations, and completion of the environmental review requirements as prescribed in the USDA Rural Utilities Services' Environmental Policies and Procedures (7 CFR part 1794).

Dated: December 29, 2006.
James R. Newby,
Assistant Administrator, USDA/Rural Development/Electric Program.

[FR Doc. E7-226 Filed 1-10-07; 8:45 am]

BILLING CODE 3410-15-P